DEPARTMENT OF HEALTH AND HUMAN SERVICES

Administration for Children and Families

Proposed Information Collection Activity; Comment Request

Proposed Projects:

Title: Data Collection for the Fourth National Incidence Study of Child Abuse and Neglect.

OMB No.: New collection.

Description: The Department of Health and Human Services (HHS) intends to collect data for the next National Incidence Study of Child Abuse and Neglect (NIS). This will be the fourth cycle of this periodic study. NIS-1, mandated under Public Law (Pub. L.) 93-247 (1974), was conducted in 1979 and 1980, and reported in 1981. NIS-2, mandated under (Pub. L.) 100-294 and the Child Abuse, Domestic Violence, Adoption, and Family Services Act of 1992 (Pub. L.) 102-295, was conducted between 1993 and 1995, and reported in 1996. NIS-4, mandated by the Keeping Children and Families Save Act of 2003 (Pub. L.) 108-36, will gather data in 2005 and 2006, and be reported in 2008.

NIS is unique in that it goes beyond the abused and neglected children who come to the attention of the Child Protective Services (CPS) system. In contrast to the National Child Abuse and Neglect Data Systems (NCANDS), which rely solely on reported cases, the NIS design assumes that reported children represent only a portion of the children who actually are maltreated. NIS estimates the scope of the maltreated child population by combining information about reported cases with data on maltreated children identified by professionals (called “sentinels”) who encounter them during the normal course of their work in a wide range of agencies in representative communities. Sentinels are asked to remain on the lookout for children whom they believe are maltreated during the study reference period and to provide information about these children.

Children identified by sentinels and those whose alleged maltreatment is investigated by CPS during the same period are evaluated against standardized definitions, and only children who meet the study standards are used to develop the study estimates. The study estimates are couched in terms of nunmbers of maltreated children, with data unduplicated s o that a given child is counted only once. Confidentiality of all participants is carefully protected through study procedures and with a Certificate of Confidentiality from the National Institutes of Health (NIH).

A nationally representative sample of 122 counties has been selected and all 125 local CPS agencies serving the selected counties have been identified. Plans have been developed to obtain data on cases investigated during the period, September 4, 2005 through January 3, 2006. Sentinels in the selected counties are being identified through samples of agencies in 11 categories: County juvenile probation departments, sheriff (and/or state police) departments, public health departments, public housing departments, municipal police departments, hospitals, schools, day care centers, social service and mental health agencies, and shelters for battered women or runaway/homeless youth. Over 1,700 sentinel agencies are being selected. Plans are being developed to identify staff in these agencies that have direct contact with children to serve as sentinels during the study by submitting data on maltreated children they encounter during the study reference period.

In addition to the main NIS-4 study to measure the incidence of maltreated children, two related surveys of participation CPS agencies will be conducted to enhance the interpretability of the findings: (1) The CPS Screening Records Survey will collect information on the CPS agencies' screening practices to understand the kinds of reports they would not accept for investigation but would instead screen out or refer for an alternative agency response. (The main NIS-4 will collect data from CPS agencies only on investigated children.) This survey will be conducted through telephone interviews with intake supervisors in the participating CPS agencies serving the NIS-4 counties; and (2) The Surveyon CPS Structure and Policies will collect information on the CPS agency context during NIS-4 to provide a basis for relating jurisdictional differences in the NIS incidence findings to the operational structure and practices of the local CPS agencies. This will be implemented through a mail survey to participating NIS-4 CPS agencies. The survey will be organized into four topical modules (covering administration, screening, investigation, and alternate response policies and practices) and the agencies will be asked to have agency staff with the appropriate expertise complete each module.

The respondents and data collection instruments are as follows:

Respondents: Nationally Representative CPA Agencies and Nationally Representative Sentinel Agency Staff.

• The CPS Maltreatment Form will collect details from CPS agencies concerning the children and maltreatment events in a sample of cases and will be used in characterizing maltreated children and generating national estimates of their numbers in different categories of abuse and neglect.

• The CPS Summary data Form will be completed on all non-sampled cases investigated by CPS during the reference period and will be used for unduplicating multiple records on the same child both within the CPS data and between the CPS and sentinel data. The CPS Summary Data Form data will be collected electronically whenever possible.

• The Sentinel Data Form will obtain details from sentinels concerning each maltreated child they encounter during the reference period.

• The CPS Screening Records Survey will be administered to CPS agencies as described above.

• The Survey on CPS Structures and Policies will be administered to CPS agencies as described above.

NIS-4 Annual Burden Hour Estimates
Instrument | Number of respondents | Number of responses per respondent | Average burden hours per response | Total burden hours
CPS Maltreatment Data Form | 125 | ᵃ80 | ᵇ.55 | 5,500
CPS Summary Forms, hard copy ᶜ | 31 | ᵈ1,056 | ᵉ.08 | 2,619
CPS Summary Forms, electronic ᶜ | 94 | 1 | 20 | ᶠ1,880
Sentinel Data Form | 12,000 | ᵍ.8 | ʰ.35 | 3,360
CPS Screening Records Survey | 125 | 1 | ⁱ1 | 125
Survey on CPS Structures and Policies | 125 | 1 | ʲ2.89 | 361
Estimated Total Annual Burden Hours |  |  |  | 13,845
ᵃ Estimated by dividing 10,000 (estimated number of sampled cases) by 125 (number of CPS agencies). The actual sample sizes within the CPS agencies may diverge from this average of 80.
ᵇ Based on CPS workers' average estimate of 33 minutes per form.
ᶜ Assumes that on-fourth of the 125 agencies will only be able to submit hard-copy forms while three-fourths will be capable of submitting the data electronically. (Note: electronic submission will be used with every agency that has the capability to do so.)
ᵈ Based on NCANDS caseload data, we estimate that we will receive a total of 132,000 CPS Summary Forms, or an average of about 1,056 from each of the 125 agencies.
ᵉ Based on CPS workers' average estimate of 5 minutes per form.
ᶠBased on an estimated 20 hours per agency for working out the specifications, programming, review, and documentation to produce the files with the summary form information.
ᵍ Using the NIS-3 average of .8 form per recruited sentinel.
ʰ Based on sentinels' average estimate of 21 minutes per form.
ⁱ Based on simulated interviews conducted by contractor staff.
ʲ Based on the contractor's estimate of 2.25 hours for the administration, screening, and investigation modules (completed by 100 percent of agencies) and 1 hour for the alternative response module (completed by 64 percent of agencies, based on findings from the Local Agency Survey in the National Study of CPS Systems and Reforms Efforts).

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

In compliance with the requirements of Section 3506(c)(2)(A) of the Paperwork Reduction act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 14, 2005.
Robert Sargis,
Reports Clearance Officer.

[FR Doc. 05-5476 Filed 3-18-05; 8:45 am]

BILLING CODE 4184-01-M